DEPARTMENT OF TRANSPORTATION

Federal Highway Administration

National Safe Routes to School Task Force to the Secretary of Transportation

AGENCY: Federal Highway Administration (FHWA), DOT.

ACTION: Notice of teleconference meeting of advisory committee.

SUMMARY: This document announces the scheduling of a teleconference by the National Safe Routes to School Task Force to the Secretary of Transportation. The purpose of the Task Force is to advise the Secretary of Transportation, through the Federal Highway Administration (FHWA) Office of Safety, on strategies to advance Safe Routes to School (SRTS) Programs nationwide and to encourage children, including those with disabilities, to walk and bicycle to school pursuant to section 1404(h) of the Safe, Accountable, Flexible, Efficient Transportation Equity Act: A Legacy for Users (SAFETEA-LU) (Pub. L. 109-59, Aug. 10, 2005). During this teleconference, the Task Force will discuss their draft report to the Secretary.

DATES: A teleconference meeting of the Task Force is scheduled for 1 p.m. to 3 p.m. e.t. on March 4, 2008.

ADDRESSES: This teleconference will originate at the U.S. Department of Transportation, Federal Highway Administration, Office of Safety, 1200 New Jersey Ave., SE., Washington, DC 20590. Room E71-124 will be available to the public to listen to this teleconference but visitors must first report to the DOT reception desk to receive a visitor's badge and call (202) 366-2288 for a security escort. Members of the public will not be permitted to participate in the conference call via telephone.

FOR FURTHER INFORMATION CONTACT: Mr. Tim Arnade, the Designated Federal Official, Safe Routes to School Program Manager, FHWA Office of Safety Programs, (202) 366-2205, Tim.Arnade@dot.gov; Federal Highway Administration, 1200 New Jersey Ave., SE., Washington, DC 20590.

SUPPLEMENTARY INFORMATION:

Background

Section 1404 of SAFETEA-LU required the Secretary of Transportation to establish a Safe Routes to School (SRTS) Program. The purpose of the program is to enable and encourage children, including those with disabilities, to walk and bicycle to school and to make bicycling and walking to school a safer and more appealing transportation alternative. Section 1404(h) requires the establishment of a National SRTS Task Force. This teleconference is the sixth meeting of the Task Force. Complete meeting minutes from the previous meetings are posted on the Web site listed below.

The agenda for this teleconference will include discussion of a draft report to the Secretary of Transportation about national strategies to advance SRTS programs nationwide.

Further information about the Task Force can be found at http://www.saferoutesinfo.org/task_force/.

Once a detailed agenda is developed, it will be posted on this Web site. Please note that agenda items are subject to change as priorities dictate.

Conclusion

A teleconference by National Safe Routes to School Task Force will be held at the U.S. Department of Transportation, Room E71-124, Federal Highway Administration, Office of Safety, 1200 New Jersey Ave., SE., Washington, DC 20590, from 1 p.m.-3 p.m. e.t., on March 4, 2008. Members of the public will not be permitted to participate in the conference call via telephone, but are invited to listen to the teleconference at the address listed above.

(Authority: Section 1404(h), Pub. L. 109-59; 5 U.S.C., App. II § 1)

Issued on: February 15, 2008.
J. Richard Capka,
Federal Highway Administrator.

[FR Doc. E8-3311 Filed 2-21-08; 8:45 am]

BILLING CODE 4910-22-P